DEPARTMENT OF DEFENSE

Office of the Secretary

[Docket ID: DOD-2018-OS-0021]

Privacy Act of 1974; System of Records

AGENCY: Office of the Secretary of Defense, Department of Defense.

ACTION: Notice of a modified system of records.

SUMMARY: The Office of the Secretary of Defense (OSD) proposes to modify a system of records notice entitled GlobalNET Outreach and Collaboration Platform, DSCA 02. This system is a web based technology solution that provides the Regional Center for Security Studies and Defense Security Cooperation Agency (DSCA) with a procedure to improve international outreach efforts as well as foster collaboration among their faculty, current and former students, OSD, and other designated Department of Defense (DoD) educational institutions and communities. The GlobalNET platform provides a collaborative social networking environment/capability for students, alumni, faculty, partners, and other community members.

DATES: Comments will be accepted on or before May 24, 2018. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate of Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPDD), 1155 Defense Pentagon, Washington, DC 20301-1155, or by phone at (571) 372-0478.

SUPPLEMENTARY INFORMATION: The Office of the Secretary of Defense proposes to modify a system of records subject to the Privacy Act of 1974, 5 U.S.C. 552a. The GlobalNET Outreach and Collaboration Platform (DSCA 02) is a web based information technology platform to improve international partner outreach and collaboration efforts in a federated environment. The system collects information on students in order to allow them to share information with peers, faculty, and regional center personnel. GlobalNET is the official DSCA system for performing alumni outreach, facilitating alumnus/professor communication and peer-to-peer communications (or social networking).

As a result of reviewing this system of records notice, the DSCA proposes to modify this system by updating the following sections: Categories of individuals, categories of records, authorities, routine uses, retention and disposal, notification procedure, record access procedures, and record source categories. This notice also reflects changes to ensure compliance with Office of Management and Budget Circular A-108.

The OSD notices for systems of records subject to the Privacy Act of 1974 (5 U.S.C. 552a), as amended, have been published in the Federal Register and are available from the address in FOR FURTHER INFORMATION CONTACT or at the Defense Privacy and Civil Liberties Division website at https://defense.gov/privacy.

The proposed system report, as required by 5 U.S.C. 552a(r) of the Privacy Act of 1974, as amended, was submitted on February 27, 2018 to the House Committee on Oversight and Government Reform, the Senate Committee on Governmental Affairs, and the Office of Management and Budget (OMB).

Dated: April 18, 2018.
Aaron T. Siegel,
Alternate OSD Federal Register Liaison Officer, Department of Defense.

SYSTEM NAME AND NUMBER

GlobalNET Outreach and Collaboration Platform, DSCA 02.

SECURITY CLASSIFICATION:

Unclassified.

SYSTEM LOCATION:

Amazon Web Services, LLC, 13461 Sunrise Valley Drive, Herndon, VA 20171-3283.

GlobalNET Program Manager, Defense Security Cooperation Agency, ATTN: PGM/CMO, 201 12th Street S, Suite 203, Arlington, VA 22202-5408.

SYSTEM MANAGER(S):

GlobalNET Program Manager, Defense Security Cooperation Agency, ATTN: PGM/CMO, 201 12th Street S, Suite 203, Arlington, VA 22202-5408.

AUTHORITY FOR MAINTENANCE OF THE SYSTEM:

10 U.S.C. 134, Under Secretary of Defense for Policy; Department of Defense (DoD) Directive (DoDD) 5101.1, DoD Executive Agent; DoDD 5105.65, Defense Security Cooperation Agency (DSCA); DoDD 5132.03, DoD Policy and Responsibilities Relating to Security Cooperation; and DoDD 5200.41, DoD Regional Centers for Security Studies.

PURPOSE(S) OF THE SYSTEM:

This system is a technology solution that provides the Regional Center for Security Studies and Defense Security Cooperation Agency (DSCA) with a methodology to improve international outreach efforts as well as foster collaboration among their faculty, current and former students, OSD, and other designated Department of Defense (DoD) educational institutions and communities as required. The primary purpose of GlobalNET platform is to provide a collaborative social networking environment/capability for students, alumni, faculty, partners, and other community members.

CATEGORIES OF INDIVIDUALS COVERED BY THE SYSTEM:

DoD Military and civilian employees, military students, alumni, contractors, systems integrators, and subject matter experts who interact with DoD educational institutions.

CATEGORIES OF RECORDS IN THE SYSTEM:

Name, country of residence, nationality, rank, email addresses, telephone numbers, month/year of attendance and course subjects, and biographic information such as subject matter expertise, background, and education.

RECORD SOURCE CATEGORIES:

From the individual.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3):

a. To contractors, grantees, experts, consultants, students, and others performing or working on a contract, service, grant, cooperative agreement, or other assignment for the DoD when necessary to accomplish an agency function related to this system of records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines that the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a Member of Congress or staff acting upon the Member's behalf when the Member or staff requests the information on behalf of, and at the request of, the individual who is the subject of the record.

g. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

These electronic records are stored on secure servers with access controlled, access restricted by the use of logon, password, and/or card swipe protocols.

POLICIES AND PRACTICES FOR RETRIEVAL OF RECORDS:

These records may be retrieved by participant name, email address, subject matter expertise, month/year of attendance, and course subject.

POLICIES AND PRACTICES FOR RETENTION AND DISPOSAL OF RECORDS:

These records are retained and disposed of consistent with the National Archives and Records Administration approved Records Disposition Schedules. These records are destroyed or deleted 3 years after a user requests account termination or inactivity; or when information posted is superseded.

ADMINISTRATIVE, TECHNICAL, AND PHYSICAL SAFEGUARDS:

Access is limited to those individuals with a need to know in order to perform official and assigned duties. Physical access is limited through the use of locks, guards, card swipe, and other administrative procedures. The electronic records are housed on systems with access restricted by the use of login, password, and/or card swipe protocols. Users are warned through screen log-on, protocols and/or in briefings of the consequences of improper access or use of the data. The web-based files are encrypted in accordance with approved information assurance protocols. The user can also restrict access to personal data by selecting which type of information is available to members, friends, or others.

RECORD ACCESS PROCEDURES:

Individuals seeking access to records about themselves contained in this system should address written inquiries to the Office of the Secretary of Defense/Joint Staff, Freedom of Information Act Requester Service Center, 1155 Defense Pentagon, Washington, DC 20301-1155.

Signed, written requests should include the full name, current address and telephone number, and the name and number of this system of records notice.

In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The OSD rules for accessing records, for contesting contents and appealing initial agency determinations are published in OSD Administrative Instruction 81; 32 CFR part 310; or may be obtained from the system manager.

NOTIFICATION PROCEDURES:

Individuals seeking to determine whether information about themselves is contained in this system of records should address written inquiries to GlobalNET Program Manager, Defense Security Cooperation Agency, ATTN: STR/TNG, 201 12th Street S, Suite 203, Arlington, VA 22202-5408.

Signed, written requests should include the full name, current address and telephone number, and the name and number of this system of records notice.

In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

April 12, 2012 77 FR 21973; March 7, 2007, 72 FR 10180

[FR Doc. 2018-08451 Filed 4-23-18; 8:45 am]

BILLING CODE 5001-06-P